DEPARTMENT OF AGRICULTURE

Commodity Credit Corporation

Farm Service Agency

Notice of Availability of Draft Supplemental Programmatic Environmental Impact Statement for the Conservation Reserve Program

AGENCY: Commodity Credit Corporation and Farm Service Agency, USDA.

ACTION: Notice of availability; request for comments.

SUMMARY: This notice announces that the Farm Service Agency (FSA), on behalf of the Commodity Credit Corporation (CCC), completed a Draft Supplemental Programmatic Environmental Impact Statement (Draft SPEIS) to examine the potential environmental consequences associated with implementing changes to the Conservation Reserve Program (CRP) specified in the Agricultural Act of 2014 (the 2014 Farm Bill), and assist in developing new regulations. FSA is requesting comments on the Draft SPEIS.

DATES: We will consider comments that we receive by September 8, 2014.

ADDRESSES: We invite you to submit comments on the Draft SPEIS. In your comments, include the volume, date, and page number of this issue of the Federal Register. You may submit comments by any of the following methods:

• Federal eRulemaking Portal: Go to http://www.regulations.gov. Follow online instructions for submitting comments.

• Email: CRPComments@cardnotec.com.

• Online: Go to the Web site at http://crpspeis.com. Follow online instructions for submitting comments.

• Fax: (757) 594-1469.

• Mail, hand delivery, or courier: CRP SPEIS, C/O CardnoTEC, Inc., 11817 Canon Blvd., Suite 300, Newport News, VA 23606.

A copy of the Draft SPEIS is available through the FSA homepage at http://www.fsa.usda.gov/FSA/webapp?area=home&subject=ecrc&topic=nep-cd or at http://crpspeis.com.

FOR FURTHER INFORMATION CONTACT: Nell Fuller, (202) 720-6303. Persons with disabilities who require alternative means for communication (Braille, large print, audio tape, etc.) should contact the USDA Target Center at (202) 720-2600 (voice).

SUPPLEMENTARY INFORMATION: The National Environmental Policy Act (NEPA) provides a means for the public to comment on alternatives and environmental concerns for Federal programs or actions. The CRP Draft SPEIS was completed as required by NEPA (42 U.S.C. 4321-4347), the Council on Environmental Quality (CEQ) Regulations for Implementing the Procedural Provisions of NEPA (40 CFR parts 1500-1508), and FSA's NEPA regulations (7 CFR part 799). FSA provided notice of its intent (NOI) to prepare the CRP SPEIS in the Federal Register on November 29, 2013 (78 FR 71561-71562), and solicited public comment on the preliminary alternatives for analyzing changes to CRP from the 2014 Farm Bill. FSA considered input from those comments to develop the alternatives analyzed in the Draft SPEIS. We received a total of 8 comments from private organizations, members of the concerned public, and Federal, State, and local government agencies. The comments involved 55 individual issues covering a range of topics including proposed 2014 Farm Bill changes, CRP maximum enrollment and acreages, regional differences in haying and grazing impacts, claims of a lack of thorough environmental and socioeconomic impact analysis in previous NEPA documentation, and CRP funding policy. All substantive comments received that were within the defined scope of the SPEIS were incorporated.

As specified in the 2014 Farm Bill, FSA plans to consolidate a number of conservation programs to simplify the programs, reduce overlapping goals, and reduce overall budgets. Many of the changes to CRP from the 2014 Farm Bill are administrative in nature, would not result in major changes to the current administration of CRP, or have been addressed in previous NEPA documentation concerning CRP. Such changes do not require further analysis in the SPEIS.

Those changes, and the justification for eliminating them from analysis, include the following, each of which is discussed below:

• Maximum enrollment authority;

• Farmable Wetland Program enrollment changes;

• Tree thinning payments;

• Early termination of contracts;

• Managed harvesting and routine grazing payment reduction;

• Transition option funding;

• Emergency haying and grazing payment reduction; and

• Prescribed grazing frequency.

Maximum Enrollment Authority

The maximum enrollment authority will be gradually reduced to no more than 24 million acres by 2018, as required by the 2014 Farm Bill. The “2010 Conservation Reserve Program Supplemental Environmental Impact Statement” (referred to as the 2010 CRP SEIS) analyzed an alternative to reduce the enrollment authority to no more than 24 million acres; therefore, that analysis is incorporated by reference.

Farmable Wetland Program Enrollment Changes

The change in the 2014 Farm Bill to reduce the maximum enrollment authority to 750,000 acres nationally (from 1 million) would still allow for approximately 410,000 acres of farmable wetlands to be enrolled in the Farmable Wetland Program. The mandated reduction in enrollment is not required to be analyzed since there is no discretion for any other level. Additionally, the mandatory reduction is not expected to affect actual enrollment, as historically enrollment has been well below the cap.

Tree Thinning Payments

The payment authority for tree thinning activities was reduced to $10 million and incentive payments are allowed. The 2014 Farm Bill change allows FSA to incentivize owners and operators to conduct practices and use management tools that would promote forest management, enhance the overall health of tree stands, improve the condition of resources, or provide valuable habitat for wildlife. Less than $50,000 in payments have been provided for tree thinning activities since the Food, Conservation, and Energy Act of 2008 (Pub. L. 110-246, commonly referred to as the 2008 Farm Bill). The reduction in funding available for tree thinning activities would not represent a real change in current use of the funds and does not require further analysis.

Early Termination of Contracts

As provided in the 2014 Farm Bill, the early termination provision of CRP that previously applied only to contracts entered into before January 1, 1995, will be modified to apply, only during fiscal year 2015, to allow CRP participants to elect early termination of certain CRP contracts, provided the contract has been in place for at least 5 years. The 2014 Farm Bill mandates providing an opportunity for the early termination of CRP contracts, if certain criteria are met; FSA does not have any discretion whether to implement that change. Therefore, this change does not require further NEPA analysis. FSA estimates that approximately 3 million acres would be eligible for early termination under this provision.

Managed Harvesting and Routine Grazing Payment Reduction

As required by the 2014 Farm Bill, there will be a reduction in the annual rental payment of at least 25 percent for managed harvesting or routine grazing. This change clarifies the existing administrative procedure related to these practices. A reduction of 25 percent in the annual rental payment was analyzed in the 2010 CRP SEIS; that analysis is incorporated by reference. Therefore, these changes do not require further analysis in the SPEIS.

Transition Option Funding

As specified in the 2014 Farm Bill, the funding authority to encourage the transfer of land from a retiring farmer or rancher to a beginning farmer or rancher, or a socially disadvantaged farmer or rancher, would be increased to $33 million and would expand the eligibility to include certain farmers or ranchers who are military veterans. This is a non-discretionary, administrative change and does not require further analysis in the SPEIS.

Emergency Haying and Grazing Payment Reduction

As specified in the 2014 Farm Bill, harvesting, grazing, or other commercial use of the forage in response to a drought, flooding, or other emergency is authorized without any reduction in the rental rate. The socioeconomic effects of emergency haying and grazing on the local and regional communities where these activities could occur has been previously analyzed in the 2010 CRP SEIS and the “2012 Environmental Assessment for Emergency Drought Response on Conservation Reserve Program Lands”; those analyses are incorporated by reference. Accordingly, this non-discretionary change does not require further analysis.

Prescribed Grazing Frequency

FSA allows annual prescribed grazing for control of invasive plants. The 2010 CRP SEIS analyzed the impacts of prescribed grazing in compliance with a grazing plan, which is part of the Conservation Plan that includes frequency, timing, stocking rates, and type of grazing animal; that analysis is incorporated by reference. The 2014 Farm Bill provides clarification that such grazing can occur as determined in consultation with the State Technical Committee; this change does not require further analysis.

Alternatives

Many elements of the 2014 Farm Bill are mandatory and therefore, non-discretionary or specifically required to be implemented. As FSA has no decision-making authority over those non-discretionary provisions of the 2014 Farm Bill, they are specified and assessed in the Draft SPEIS as part of the No Action Alternative.

Other provisions in the 2014 Farm Bill provide overall guidance for CRP, but FSA has some discretion in how to implement those provisions. These discretionary aspects of the 2014 Farm Bill form the Proposed Action. In addition, FSA proposes to implement additional discretionary measures for targeting enrollment of environmentally sensitive lands and to expand the flexibility of emergency haying and grazing in drought-designated areas to provide necessary support to producers and ranchers during difficult times.

The Draft SPEIS assesses the following two alternatives: The No Action Alternative and the Proposed Action Alternative.

No Action Alternative

The No Action Alternative includes the following, each of which is discussed below:

• Grasslands eligibility and authorized activities; and

• Final year of contract.

Grasslands Eligibility and Authorized Activities

The 2014 Farm Bill makes grasslands, which would have been previously eligible for the Grassland Reserve Program (GRP), eligible for enrollment in CRP. The eligibility of grasslands and authorized activities are the same as those previously defined for GRP. Grasslands enrollment would be limited to no more than 2 million acres at any given time and would count against the total CRP maximum enrollment authority. Enrollment would occur through Continuous Sign-up. Grasslands would be enrolled in 10- or 15-year contracts like other CRP acreage. Authorized activities on grasslands would differ from other CRP lands and include:

• Common grazing practices;

• Haying, mowing, or harvesting for seed production;

• Fire suppression, fire-related rehabilitation, and construction of fire breaks; and

• Grazing-related activities, such as fencing and livestock watering.

Final Year of Contract and Enrollment in New Program

FSA allows a CRP participant to enroll expiring CRP land into the Conservation Stewardship Program during the year prior to the expiration of the CRP contract. FSA encourages agricultural and forestry producers to address resource concerns by undertaking additional conservation activities and improving and maintaining existing conservation systems. FSA pays participants for conservation performance—the higher the performance, the higher the payment. Land is enrolled in 5-year contracts through Continuous Sign-up. Furthermore, a stipulation in the 2014 Farm Bill would allow CRP land to be enrolled in a new program, the Agricultural Conservation Easement Program, without violation of the CRP contract. In general, the Agricultural Conservation Easement Program combines the purposes of the Wetlands Reserve Program, the GRP, and the Farm and Ranchlands Protection Program by enrolling land in long-term or permanent easements.

Proposed Action Alternative

Some elements of the 2014 Farm Bill provide overall guidance but details of implementation are left to FSA's discretion. These discretionary aspects of the 2014 Farm Bill form the Proposed Action alternative. In addition to the 2014 Farm Bill mandatory provisions, FSA proposes to implement additional discretionary measures for targeting enrollment of environmentally sensitive lands and to expand the flexibility of emergency haying and grazing in drought designated areas. The components of the Proposed Action alterative include the following, each of which is discussed below:

• Targeted enrollment;

• Managed harvesting and routine grazing frequencies; and

• Emergency haying and grazing on additional conservation practices.

Targeted Enrollment

Under the Proposed Action, in addition to the long-standing General and Continuous Sign-up enrollment methods, FSA proposes to target enrollment of environmentally sensitive land through a reverse auction approach for select conservation practices. Targeted enrollment could enable FSA to meet the reduced CRP enrollment cap while preserving the ability to enroll land that would provide the greatest environmental benefit. This approach would be similar to Continuous Sign-up, but with an annual enrollment period, sign-up, and offer selection.

Managed Harvesting and Routine Grazing Frequencies

As specified in the 2014 Farm Bill, FSA continues to allow for managed harvesting (hay or biomass) and routine grazing of CRP acres provided these activities are included in the Conservation Plan and are consistent with the conservation of soil, water quality, and wildlife habitat. Harvesting and grazing activities must still avoid the Primary Nesting Season. The State Technical Committee must develop appropriate vegetation management requirements and identify periods during which the activities could occur such that the frequency is:

• At least once every 5 years, but no more frequent than once every 3 years for managed harvesting; and

• Not more frequent than once every 2 years for routine grazing.

Emergency Haying and Grazing on Additional Conservation Practices

• The Proposed Action includes making additional conservation practices that are currently ineligible for any type of haying or grazing eligible for emergency haying and grazing to provide support to livestock producers during widespread drought conditions. Allowing haying and grazing on the proposed conservation practices in drought-designated areas would require concurrence and approval by certain State or federal agencies.

Public Involvement

The Draft SPEIS provides a means for the public and any interested parties to provide comments about the CRP changes analyzed in the Draft SPEIS. The Draft SPEIS can be reviewed online at: http://www.fsa.usda.gov/FSA/webapp?area=home&subject=ecrc&topic=nep-cd or at http://crpspeis.com.

FSA is having five public meetings to provide information and opportunities for discussing the changes to CRP specified by the 2014 Farm Bill and analyzed in the Draft SPEIS. The public meetings will feature an Open House format and interested parties are invited to attend the meeting at any time during the allotted timeframe. Posters and informational handouts as well as FSA representatives will be available for the duration of the meeting to answer questions concerning the Draft CRP SPEIS. The meetings are also an opportunity for interested parties to officially provide comments on the Draft CRP SPEIS. The meetings will be held at the following locations:

Date | Time | Location information
July 21, 2014 | 6:00 p.m.-8:00 p.m. | Hilton Garden Inn, Spokane Airport, 9015 West SR Highway 2, Spokane, Washington, 99224.
July 22, 2014 | 6:00 p.m.-8:00 p.m. | Holiday Inn, Great Falls, 1100 5th Street, South Falls, Montana, 59405.
August 4, 2014 | 6:00 p.m.-8:00 p.m | Plains Cotton Cooperative Association, 3301 East 50th Street, Lubbock, Texas, 79404.
August 5, 2014 | 6:00 p.m.-8:00 p.m | Stillwater Library, 1107 S Duck Street, Stillwater, Oklahoma, 74074.
August 6, 2014 | 6:00 p.m.-8:00 p.m | Courtyard By Marriott and Moorhead Area, Conference Center, 1080 28th Avenue, South, Moorhead, Minnesota, 56560.

Signed on July 11, 2014.
Juan M. Garcia,
Administrator, Farm Service Agency, and Executive Vice President, Commodity Credit Corporation.

[FR Doc. 2014-16711 Filed 7-14-14; 8:45 am]

BILLING CODE 3410-05-P